DEPARTMENT OF HOMELAND SECURITY

Bureau of Citizenship and Immigration Services

Agency Information Collection Activities: Comment Request

ACTION: Request OMB approval: 1615-0001, Petition for Alien Fiance(e).

The Department Homeland Security, Bureau of Citizenship and Immigration Services has submitted the following information collection request for review and clearance in accordance with the Paperwork Reduction Act of 1995. This notice is published to obtain comments from the public and affected agencies. Comments are encouraged and will be accepted for sixty days until December 7, 2004.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: Petition for Alien Fiance(e).

(3) Agency form number, if any, and the applicable component of the Department of Homeland Security sponsoring the collection: Form I-129F. Adjudications Division, Bureau of Citizenship and Immigration Services.

(4) Affected public who will be asked or required to respond, as well as a brief abstract: Primary: Individuals and households. This form is used by a U.S. citizen to facilitate the entry of his/her fiancé(e) into the United States so that a marriage may be concluded within 90 days of entry between the U.S. citizen and the beneficiary of the petition. This form also allows the spouse or child of a U.S. citizen to enter the U.S. as a nonimmigrant, in accordance with provisions of section 1103 of the Legal Immigration Family Equity Act of 2000.

(5) An estimate of the total number of respondents and the amount of time estimated for an average respondent to respond: 200,000 responses at 30 minutes (.50 hours) per response.

(6) An estimate of the total public burden (in hours) associated with the collection: 100,000 annual burden hours.

If you have additional comments, suggestions, or need a copy of the proposed information collection instrument with instructions, or additional information, please contact Richard A. Sloan 202-616-7600, Director, Regulatory Management Division, Department of Homeland Security, 111 Massachusetts Avenue, NW., Washington, DC 20529. Additionally, comments and/or suggestions regarding the item(s) contained in this notice, especially regarding the estimated public burden and associated response time may also be directed to Mr. Richard A. Sloan.

Dated: October 4, 2004.
Richard A. Sloan,
Department Clearance Officer, Department of Homeland Security, Bureau of Citizenship and Immigrant Services.

[FR Doc. 04-22672 Filed 10-7-04; 8:45 am]

BILLING CODE 4410-10-M